NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On June 3, 2002, the National Science Foundation published a notice in the Federal Register of permit applications received. Permits were issued on July 26, 2002 to: David Ainley, Permit No. 2003-002; Paul J. Ponganis, Permit No. 2003-003; William R. Fraser, Permit No. 2003-004, 005, 006; and Mark Buckley, Permit No. 2003-007.

Nadene G. Kennedy,
Permit Officer.

[FR Doc. 02-26188 Filed 10-11-02; 8:45 am]

BILLING CODE 7555-01-M